OVERSEAS PRIVATE INVESTMENT CORPORATION

Sunshine Act Meeting Notice—June 14, 2012 Board of Directors Meeting

TIME AND DATE: Thursday, June 14, 2012, 10 a.m. (OPEN Portion) 10:15 a.m. (CLOSED Portion).

PLACE: Offices of the Corporation, Twelfth Floor Board Room, 1100 New York Avenue NW., Washington, DC.

STATUS: Meeting OPEN to the Public from 10 a.m. to 10:15 a.m. Closed portion will commence at 10:15 a.m. (approx.).

MATTERS TO BE CONSIDERED: 1. President's Report.

2. Confirmation. Dennis Lauer as Vice President for Administrative Services and Chief Information Officer.

3. Minutes of the Open Session of the March 29, 2012 Board of Directors Meeting.

FURTHER MATTERS TO BE CONSIDERED (Closed to the Public 10:15 a.m.): 1. Finance Project—Kenya, Tanzania and East Africa.

2. Finance Project—Peru.

3. Finance Project—Jordan.

4. Finance Project—Botswana.

5. Finance Project—South Africa.

6. Finance Project—Central/Eastern Europe.

7. Finance Project—Brazil.

8. Finance Project—Sub-Saharan Africa.

9. Finance Project—Global.

10. Finance Project—South and Sub-Saharan Africa.

11. Minutes of the Closed Session of the March 29, 2012 Board of Directors Meeting.

12. Reports.

13. Pending Major Projects.

Written summaries of the projects to be presented will be posted on OPIC's Web site on or about May 25, 2012.

CONTACT PERSON FOR INFORMATION: Information on the meeting may be obtained from Connie M. Downs at (202) 336-8438.

May 24, 2012.
Connie M. Downs,
Corporate Secretary, Overseas Private Investment Corporation.

[FR Doc. 2012-13058 Filed 5-24-12; 4:15 pm]

BILLING CODE 3210-01-P